DEPARTMENT OF HOMELAND SECURITY

[Docket No. CISA-2020-0002]

Notice of Request for Extension of a Currently Approved Information Collection for Chemical-Terrorism Vulnerability Information (CVI)

AGENCY: Cybersecurity and Infrastructure Security Agency, DHS.

ACTION: 60-Day notice and request for comments; extension of Information Collection Request: 1670-0015.

SUMMARY: The Infrastructure Security Division (ISD) within the Cybersecurity and Infrastructure Security Agency (CISA) will submit the following Information Collection Request (ICR) to the Office of Management and Budget (OMB) for review and clearance in accordance with the Paperwork Reduction Act of 1995. The submission proposes to renew the information collection for an additional three years and update the burden estimates.

DATES: Comments are encouraged and will be accepted until May 29, 2020.

ADDRESSES: You may send comments, identified by docket number through the Federal eRulemaking Portal: http://www.regulations.gov. Follow the instructions for sending comments.

Instructions: All submissions received must include the agency name “CISA” and docket number CISA-2020-0002. All comments received will be posted without change to http://www.regulations.gov, including any personal information provided.

Comments that include trade secrets, confidential commercial or financial information, Chemical-terrorism Vulnerability Information (CVI),¹ Sensitive Security Information (SSI),² or Protected Critical Infrastructure Information (PCII) ³ should not be submitted to the public docket. Comments containing trade secrets, confidential commercial or financial information, CVI, SSI, or PCII should be appropriately marked and packaged in accordance with applicable requirements and submitted by mail to the DHS/CISA/Infrastructure Security Division, CFATS Program Manager at CISA, 245 Murray Lane SW, Mail Stop 0610, Arlington, VA 20528-0610. Comments must be identified by docket number CISA-2020-0002.

¹ For more information about CVI see 6 CFR 27.400 and the CVI Procedural Manual at www.dhs.gov/publication/safeguarding-cvi-manual.

² For more information about SSI see 49 CFR part 1520 and the SSI Program web page at www.tsa.gov/for-industry/sensitive-security-information.

³ For more information about PCII see 6 CFR part 29 and the PCII Program web page at www.dhs.gov/pcii-program.

FOR FURTHER INFORMATION CONTACT: Lona Saccomando, 703-235-5263, cfats@hq.dhs.gov.

SUPPLEMENTARY INFORMATION: The CFATS Program identifies and regulates the security of high-risk chemical facilities using a risk-based approach. Congress initially authorized the CFATS Program under Section 550 of the Department of Homeland Security Appropriations Act of 2007, Public Law 109-295 (2006) and reauthorized it under the Protecting and Securing Chemical Facilities from Terrorist Attacks Act of 2014 ⁴ or “CFATS Act of 2014” (Pub. L. 113-254, 6 U.S.C. 621 et seq.). The Department implemented the CFATS Program through rulemaking and issued an Interim Final Rule (IFR) on April 9, 2007 and a final rule on November 20, 2007. See 72 FR 17688 and 72 FR 65396.

⁴ The CFATS Act of 2014 codified the CFATS program into the Homeland Security Act of 2002. See 6 U.S.C. 621 et seq., as amended by Public Law 116-2.

Pursuant to 6 U.S.C. 623, the CFATS regulations establish the requirements under 6 CFR 27.400 that covered persons must follow to safeguard certain documents and other information developed under the regulations from unauthorized disclosure. This information is identified as CVI and, by law, receives protection from public disclosure and misuse. This collection will be used to manage the CVI program in support of CFATS. The current information collection for the CVI program (IC 1670-0015) will expire on January 31, 2021.⁵

⁵ The current information collection for CVI (i.e., IC 1670-0015) may be viewed at https://www.reginfo.gov/public/do/PRAViewICR?ref_nbr=201704-1670-002.

CISA proposes one revision from the previously approved collection. Specifically, to increase the loaded average hourly wage rate of respondents from $78.93 to $79.75 based on updated BLS wage and compensation data.

This process is conducted in accordance with 5 CFR 1320.8.

CISA's Methodology in Estimating the Burden for the Chemical-Terrorism Vulnerability Information Authorization

Number of Respondents

The current information collection estimated that 20,000 respondents submit a request to become a CVI Authorized User Number annually. The table below provides the number of respondents over the past three years (i.e., Fiscal Year (FY) 2017 through FY 2019).

| FY 2017 | FY 2018 | FY 2019
Number of Respondents | 19,392 | 16,504 | 13,667

Due to past fluctuations and uncertainty regarding the number of future respondents, CISA believes that 20,000 continues to be a reasonable estimate. Therefore, CISA proposes to retain the estimated the annual number of respondents.

Estimated Time per Respondent

In the current information collection, the estimated time per respondent to prepare and submit a CVI Authorization is 0.50 hours (30 minutes). CISA proposes to retain the estimated time per respondent.

Annual Burden Hours

The annual burden hours for the CVI Authorization is [0.50 hours × 20,000 respondents × 1 response per respondent], which equals 10,000 hours.

Total Capital/Startup Burden Cost

CISA provides access to CSAT free of charge and assumes that each respondent already has computer hardware and access to the internet for basic business needs. Therefore, there are no annualized capital or start-up costs incurred by chemical facilities of interest or high-risk chemical facilities for this information collection.

Total Recordkeeping Burden

There are no recordkeeping burden costs incurred by chemical facilities of interest or high-risk chemical facilities for this information collection.

Total Annual Burden Cost

CISA assumes that the majority of individuals who will complete this instrument are Site Security Officers (SSOs), although a smaller number of other individuals may also complete this instrument (e.g., Federal, State, and local government employees and contractors). For the purpose of this notice, CISA maintains this assumption. Therefore, to estimate the total annual burden, CISA multiplied the annual burden of 10,000 hours by the loaded average hourly wage rate of SSOs of $79.75 per hour.⁶ Therefore, the total annual burden cost for the CVI Authorization instrument is $797,474 [10,000 total annual burden hours × $79.75 per hour].

⁶ The wage used for an SSO equals that of Managers, All (11-9199), with a load factor of 1.43508 to account for benefits in addition to wages https://www.bls.gov/oes/2018/may/oes119199.htm. The load factor is estimated by dividing total compensation by total wages and salaries for the Management, Professional and Related series ($60.79/$42.36), which can be found at https://www.bls.gov/news.release/ecec.t04.htm.

Analysis

Agency: Department of Homeland Security, Cybersecurity and Infrastructure Agency, Infrastructure Security Division, Infrastructure Security Compliance Division.

Title: CFATS Chemical-terrorism Vulnerability Information.

OMB Number: 1670-0015.

Instrument: Chemical-terrorism Vulnerability Information Authorization.

Frequency: “On occasion” and “Other”.

Affected Public: Business or other for-profit.

Number of Respondents: 20,000 respondents (rounded estimate).

Estimated Time per Respondent: 0.50 hours.

Total Burden Hours: 10,000 annual burden hours.

Total Burden Cost (capital/startup): $0.

Total Recordkeeping Burden: $0.

Total Burden Cost: $797,474.

Richard S. Libby,
Deputy Chief Information Officer, Department of Homeland Security, Cybersecurity and Infrastructure Security Agency.

[FR Doc. 2020-06499 Filed 3-27-20; 8:45 am]

BILLING CODE 9110-9P-P